DEPARTMENT OF COMMERCE

National Oceanic and Atmospheric Administration

50 CFR Part 679

[Docket No. 060606148-6148-01; I.D. 112805A]

RIN 0648-AU52

Fisheries of the Exclusive Economic Zone Off Alaska; Gulf of Alaska; Proposed Revision to the Final 2006 and 2007 Harvest Specifications for Groundfish

AGENCY: National Marine Fisheries Service (NMFS), National Oceanic and Atmospheric Administration (NOAA), Commerce.

ACTION: Proposed rule; request for comments.

SUMMARY: NMFS proposes to revise the final 2006 and 2007 harvest specifications for the “other species” complex in the Gulf of Alaska (GOA) by reducing the total allowable catch (TAC) for the complex to 4,500 metric tons (mt) annually. The intended effect of this action is to conserve and manage the groundfish resources in the GOA in accordance with the Magnuson-Stevens Fishery Conservation and Management Act (Magnuson-Stevens Act).

DATES: Comments must be received by August 10, 2006.

ADDRESSES: Send comments to Sue Salveson, Assistant Regional Administrator, Sustainable Fisheries Division, Alaska Region, NMFS, Attn: Ellen Walsh, Records Officer. Comments may be submitted by:

• Mail to P.O. Box 21668, Juneau, AK 99802;

• Hand Delivery to the Federal Building, 709 West 9th Street, Room 420A, Juneau, AK;

• E-mail to 2006AKGOA.tacspecs@noaa.gov and include in the subject line of the e-mail comments the document identifier: “2006 GOA Amend Harvest Specifications” (E-mail comments, with or without attachments, are limited to 5 megabytes);

• Fax to 907-586-7557; or

• Webform at the Federal eRulemaking Portal: www.regulations.gov. Follow the instructions at that site for submitting comments.

Copies of the Initial Regulatory Flexibility Analysis (IRFA) prepared for this action and the final Environmental Assessment/Regulatory Impact Review/Final Regulatory Flexibility Analysis (EA/RIR/FRFA) prepared for Amendment 69 are available from NMFS at the mailing address above or from the Alaska Region website www.fakr.noaa.gov. A copy of the EA/IRFA prepared for the 2006 and 2007 harvest specifications for the Bering Sea and Aleutian Islands and Gulf of Alaska groundfish fisheries also is available from the same address and website.

FOR FURTHER INFORMATION CONTACT: Tom Pearson, Sustainable Fisheries Division, Alaska Region, 907-481-1780 or e-mail at tom.pearson@noaa.gov.

SUPPLEMENTARY INFORMATION: NMFS manages the groundfish fisheries in the exclusive economic zone off Alaska under the Fishery Management Plan for Groundfish of the GOA (FMP). The North Pacific Fishery Management Council (Council) prepared the FMP under the authority of the Magnuson-Stevens Act, 16 U.S.C. 1801, et seq. Regulations governing U.S. fisheries and implementing the FMP appear at 50 CFR parts 600, 679, and 680.

On February 13, 2006, the Secretary of Commerce approved Amendment 69 to the FMP. A final rule implementing the amendment was published in the Federal Register on March 13, 2006 (71 FR 12626). Amendment 69 and its implementing rule modify the TAC calculation for the “other species” complex from a fixed 5 percent of the sum of target species annual TACs to an amount less than or equal to this percentage. The intent of this adjustment is to prevent overfishing of species within the “other species” complex. The actual TAC amount for the “other species” complex will continue to be established during the annual harvest specification process set forth in regulations at § 679.20. Under this process, the Council recommends a TAC amount consistent with the provisions set forth under Amendment 69 that then is forwarded to the Secretary of Commerce for review and approval.

The final 2006 and 2007 harvest specifications for groundfish in the GOA were published in the Federal Register on March 3, 2006 (71 FR 10870). Under these specifications, the 2006 and 2007 TACs for the “other species” complex are 13,856 mt and 12,229 mt, respectively. These amounts are equal to 5 percent of the sum of the target species TACs. In December 2005, the Council recommended that the “other species” TAC be reduced to 4,500 mt pending the approval of Amendment 69. This proposed rule would implement the Council's recommendation for the “other species” TAC and revise the 2006 and 2007 harvest specifications accordingly.

The FMP and its implementing regulations require NMFS, after consultation with the Council, to specify the TAC for each target species and for the “other species” category, the sum of which must be within the optimum yield range of 116,000 mt to 800,000 mt. Section 679.20(c)(1) further requires NMFS to publish and solicit public comment on the proposed harvest specifications. As mentioned above, this proposed action would lower the TAC for the “other species” complex in the 2006 and 2007 fishing years to 4,500 mt. If approved, this adjustment would reduce the cumulative 2006 TAC amount to 291,948 mt, a difference of 9,356 mt. Similarly, the cumulative 2007 TAC amount would be reduced to 273,911 mt, a difference of 7,729 mt. Under § 679.20(c)(3), NMFS will publish the final revised 2006 and 2007 harvest specifications for the “other species” complex after considering comments received within the comment period (see DATES).

The Council's recommendation in December 2005 was based on the GOA Plan Team's 4,000 mt estimate of the annual incidental catch of “other species” in the targeted groundfish and Pacific halibut fisheries, the Council's Advisory Panel's recommendation, and public testimony. A 4,500 mt TAC for the “other species” complex would allow for incidental catch needs and a small directed fishery for “other species” of approximately 500 mt in each year.

As a result of lowering the TAC for “other species,” NMFS also proposes to proportionally lower the 2006 and 2007 “other species” harvest sideboard limitations for non-exempt American Fisheries Act (AFA) catcher vessels and non AFA crab vessels. For 2006 and 2007, the “other species” harvest sideboard limitation for non-exempt AFA catcher vessels would be reduced to 40 mt from 125 mt in 2006 and 110 mt in 2007. For 2006 and 2007 the “other species” harvest sideboard limitation for non AFA crab vessels would be reduced to 79 mt from 244 mt in 2006 and 215 mt in 2007.

Classification

An IRFA was prepared to evaluate the impacts of the 2006 and 2007 proposed harvest specifications on directly regulated small entities following Secretarial approval of Amendment 69 to the GOA FMP. This IRFA is intended to meet the statutory requirements of the Regulatory Flexibility Act. A copy of the IRFA is available from NMFS (see ADDRESSES). The reason for the action, a statement of the objective of the action, and the legal basis are discussed in the IRFA and in the preamble of the proposed rule and are not repeated here.

The 2006 and 2007 harvest specifications establish harvest limits for the groundfish species and species groups in the GOA. Entities directly impacted are those fishing for groundfish in the exclusive economic zone, or in parallel fisheries in State of Alaska waters (in which harvests are counted against the Federal TAC). An estimated 782 small catcher vessels and 18 small catcher processors may be directly regulated by these harvest specifications in the GOA. The catcher vessel estimate in particular is subject to various uncertainties. It may provide an underestimate because it does not count vessels that fish only within State of Alaska waters. This may be offset by upward biases introduced by the use of preliminary price estimates (which do not fully account for post-season price adjustments) and by a failure to account for affiliations, other than AFA cooperative affiliations, among entities. For these reasons the catcher vessel estimate must be considered an approximation.

This regulation does not impose new recordkeeping or reporting requirements on the regulated small entities. This analysis did not reveal any Federal rules that duplicate, overlap, or conflict with the proposed action.

This IRFA analysis prepared for this proposed action examined the status quo, or no action alternative in relation to the proposed action to reduce the TAC for the “other species” complex to 4,500 mt. A TAC of 4,500 mt exceeds the estimated annual incidental catch needs in the groundfish and Pacific halibut fisheries while allowing for a limited (approximately 500 mt annually) directed fishery for the “other species” complex and the development of markets for these species.

The EA/RIR/FRFA prepared for Amendment 69 examined a range of TAC setting alternatives. Alternative 1 would have been the status quo, or no action alternative, and the TAC for the “other species” complex would continue to be set at 5 percent of the sum of other targeted species TACs. This alternative was not selected for conservation reasons. If the TAC were set at this level (and fully harvested) it would most likely not be sustainable, further, if a single species in the complex were targeted to the exclusion of other species in the complex that targeted species would likely experience overfishing. Alternative 3 would have set the TAC at a level anticipated to meet anticipated incidental catch needs in other directed fisheries. This alternative was not selected because, while it would have allowed retention of up to 20 percent of marketable “other species,” it would have precluded the possibility the possibility of future development of directed fisheries targeting “other species.” Alternative 2, the alternative selected by the Council and implemented by final rule gave the Council the greatest amount of flexibility to recommend a TAC up to 5 percent of the sum of the target species TACs. Presumably the Council would recommend a TAC sufficient to meet incidental catch needs in other directed fisheries while allowing for the development of sustainable fisheries targeting “other species.” The FRFA prepared for Amendment 69 determined that any of the alternatives considered would not adversely impact small entities.

The IRFA prepared for this proposed rule specifically examined the impacts of setting the TAC for the “other species” complex at 4,500 mt, as recommended by the Council, versus 5 percent of the sum of targeted species TACs which was in effect at the time the final harvest specifications for groundfish in the GOA for the fishing years 2006 and 2007 were implemented. The IRFA concluded that the proposed action does not appear to create adverse impacts on directly regulated small entities.

This action is authorized under § 679.20 and is exempt from review under Executive Order 12866.

Authority: 16 U.S.C. 773 et seq.; 1540(f); 1801 et seq.; 1851 note; and 3631 et seq.

Dated: July 6, 2006.
William T. Hogarth,
Assistant Administrator for Fisheries, National Marine Fisheries Service.

[FR Doc. E6-10855 Filed 7-10-06; 8:45 am]

BILLING CODE 3510-22-S